SMALL BUSINESS ADMINISTRATION

Disaster Declarations Impacted by Hurricane Helene and Hurricane Milton

AGENCY: U.S. Small Business Administration.

ACTION: Notice.

SUMMARY: This is a Notice of physical filing deadline extensions and re-opening of the physical filing period for certain disaster declarations impacted by the disaster funding lapse which occurred October 15 through December 21, 2024.

Incident: Hurricane Helene and Hurricane Milton.

DATES: Issued between September 28, 2024, through December 9, 2024.

Incident Period: September 23, 2024 and continuing through December 18, 2024.

Physical Loan Application Deadline Date: April 27, 2025

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given to update the physical deadline date to file an application until April 27, 2025 for the disaster declarations listed below. Applications for disaster loans may be submitted online using the MySBA Loan Portal https://lending.sba.gov or other locally announced locations. For questions, please contact the SBA disaster assistance customer service center by email at disastercustomerservice@sba.gov or by phone at 1-800-659-2955 for further assistance. Additionally, states which received other SBA disaster declarations with a physical filing period impacted by the 2024 funding lapse may request a deadline extension or physical filing period reopening by contacting the SBA Field Operations Center office serving their state or territory.

The physical filing deadlines for the following disaster declarations are extended:

Declaration code | Physical declaration No. | State | Disaster description | Declaration date | Physical deadline date | New physical deadline date
FL-20012 | 20699 | Florida | Hurricane Helene | 9/28/2024 | 1/7/2025 | 4/27/2025
NC-20007 | 20701 | North Carolina | Tropical Storm Helene | 9/28/2024 | 3/8/2025 | 4/27/2025
SC-20012 | 20703 | South Carolina | Hurricane Helene | 9/29/2024 | 1/28/2025 | 4/27/2025
GA-20013 | 20711 | Georgia | Hurricane Helene | 9/30/2024 | 2/7/2025 | 4/27/2025
VA-20011 | 20705 | Virginia | Tropical Storm Helene | 10/1/2024 | 12/2/2024 | 4/27/2025
TN-20017 | 20718 | Tennessee | Tropical Storm Helene | 10/2/2024 | 1/7/2025 | 4/27/2025
FL-20015 | 20759 | Florida | Hurricane Milton | 10/11/2024 | 1/7/2025 | 4/27/2025
FL-20017 | 20856 | Florida | Seminole Tribe of Florida Hurricane Milton | 11/5/2024 | 1/6/2025 | 4/27/2025
WV-20015 | 20768 | West Virginia | Post-Tropical Storm Helene | 12/9/2024 | 2/7/2025 | 4/27/2025

(Catalog of Federal Domestic Assistance Number 59008)

James Stallings,
Associate Administrator, Office of Disaster Recovery & Resilience.

[FR Doc. 2025-04553 Filed 3-25-25; 8:45 am]

BILLING CODE 8026-09-P